DEPARTMENT OF STATE

[Public Notice: 9232]

Notice of Proposal To Extend the Memorandum of Understanding Between the Government of United States of America and the Government of the Republic of Colombia Concerning the Imposition of Import Restrictions on Archaeological Materials From the Pre-Columbian Cultures and Certain Ecclesiastical Material From the Colonial Period of Colombia

The Government of the Republic of Colombia has informed the Government of the United States of America of its interest in an extension of the Memorandum of Understanding Between the Government of United States of America and the Government of the Republic of Colombia Concerning the Imposition of Import Restrictions on Archaeological Materials from the Pre-Columbian Cultures and Certain Ecclesiastical Material from the Colonial Period of Colombia (“MOU”).

Pursuant to the authority vested in the Assistant Secretary of State for Educational and Cultural Affairs, and pursuant to 19 U.S.C. 2602(f)(1), an extension of this MOU is hereby proposed.

Pursuant to 19 U.S.C. 2602(f)(2), the views and recommendations of the Cultural Property Advisory Committee regarding this proposal will be requested.

A copy of the MOU, the Designated List of restricted categories of material, and related information can be found at the following Web site: http://culturalheritage.state.gov. For further information, contact Isabella Strohmeyer, Program Coordinator, at 202-632-6198.

Dated: August 12, 2015.
Evan Ryan,
Assistant Secretary, Bureau of Educational and Cultural Affairs, U.S. Department of State.

[FR Doc. 2015-21171 Filed 8-25-15; 8:45 am]

BILLING CODE 4710-05-P